DEPARTMENT OF STATE

[Public Notice #3885]

Notice of Meetings; United States International Telecommunication Advisory Committee, Radiocommunication Sector

The Department of State announces a meeting of the U.S. International Telecommunication Advisory Committee. The purpose of the Committee is to advise the Department on policy and technical issues with respect to the International Telecommunication Union (ITU).

The ITAC will meet from 1 to 5 on Wednesday, February 20, 2002 to complete preparations for ITU-R Study Group 6 (Broadcasting). This meeting will be held in room 8-B411 at the Federal Communications Commission, 445 12th St., SW., Washington, DC, 20554.

Members of the general public may attend these meetings. Directions to meeting location and actual room assignments may be determined by e-mailing holidaycc@state.gov.

Attendees may join in the discussions, subject to the instructions of the Chair. Admission of participants will be limited to seating available.

Dated: January 30, 2002.
Cecily Holiday,
Director, Radiocommunication, U.S. Department of State.

[FR Doc. 02-2862 Filed 2-5-02; 8:45 am]

BILLING CODE 4710-45-P